NATIONAL ARCHIVES AND RECORDS ADMINISTRATION

Information Security Oversight Office

Public Interest Declassification Board (PIDB); Notice of Meeting

Pursuant to Section 1102 of the Intelligence Reform and Terrorism Prevention Act of 2004 which extended and modified the Public Interest Declassification Board (PIDB) as established by the Public Interest Declassification Act of 2000 (Pub. L. 106-567, title VII, December 27, 2000, 114 Stat. 2856), announcement is made for the following committee meeting:

Name of Committee: Public Interest Declassification Board (PIDB).

Date of Meeting: Friday, October 31, 2008.

Time of Meeting: 9:30 a.m. to 11:30 a.m.

Place of Meeting: National Archives and Records Administration, 700 Pennsylvania Avenue, NW., Room 105, Washington, DC 20408.

Purpose: To discuss the issue of identifying and prioritizing the declassification review of “historically significant” information as described in Issue 2 of the Board's report to the President, titled Improving Declassification. Copies of the report are located at the following Web site:

http://www.archives.gov/declassification/pidb/improving-declassification.pdf.

This meeting will be open to the public. However, due to space limitations and access procedures, the name and telephone number of individuals planning to attend must be submitted to the Information Security Oversight Office (ISOO) no later than Wednesday, October 29, 2008. ISOO will provide additional instructions for gaining access to the location of the meeting.

FOR FURTHER INFORMATION CONTACT: Julie A. Agurkis, PIDB Staff, Information Security Oversight Office, National Archives Building, 700 Pennsylvania Avenue, NW., Washington, DC 20408, telephone number (202) 357-5308.

Dated: October 7, 2008.
William J. Bosanko,
Director, Information Security Oversight Office.

[FR Doc. E8-24313 Filed 10-10-08; 8:45 am]

BILLING CODE 7515-01-P